DEPARTMENT OF ENERGY

Federal Energy Regulatory Commission

[Docket No. CP17-15-000]

Dominion Cove Point LNG, LP; Notice of Schedule for Environmental Review of the Eastern Market Access Project

On November 15, 2016, Dominion Cove Point LNG, LP (Dominion) filed an application in Docket No. CP17-15-000 requesting a Certificate of Public Convenience and Necessity pursuant to section 7(c) of the Natural Gas Act to construct and operate certain natural gas pipeline facilities. DCP's proposed Eastern Market Access Project (Project) in Maryland and Virginia would transport about 294 million cubic feet per day of firm natural gas service to Washington Gas Light Company and provide fuel to Mattawoman Energy, LLC's Mattawoman Energy Center (power generation facility).

On November 30, 2016, the Federal Energy Regulatory Commission (FERC or Commission) issued its Notice of Application for the Project. Among other things, that notice alerted other agencies issuing federal authorizations of the requirement to complete all necessary reviews and to reach a final decision on the request for a federal authorization within 90 days of the date of issuance of the Commission staff's Environmental Assessment (EA) for the Project. This instant notice identifies the FERC staff's planned schedule for completion of the EA for the Project.

Schedule for Environmental Review

Issuance of the EA June 27, 2017

90-day Federal Authorization Decision Deadline September 25, 2017

If a schedule change becomes necessary, additional notice will be provided so that the relevant agencies are kept informed of the Project's progress.

Project Description

The Eastern Market Access Project consists of a new 24,370 horsepower (hp) compressor station and installation of two new taps at an existing Washington Gas Light Company Interconnect in Charles County, Maryland; one new 7,000 hp electric-driven compressor and replacement of three existing gas coolers and compression cylinders at the existing Loudoun County Compressor Station, and a new meter building to enclose existing equipment at the Loudoun Meter & Regulating Station in Loudoun County, Virginia; and re-wheeling of the compressor on a 17,400 hp electric unit and upgrading two gas coolers at the Pleasant Valley Compressor Station in Fairfax County, Virginia.

Background

On February 15, 2017, the Commission issued a Notice of Intent to Prepare an Environmental Assessment for the Proposed Eastern Market Access Project, Request for Comments on Environmental Issues, and Notice of Public Scoping Session (NOI). The NOI was sent to affected landowners; federal, state, and local government agencies; elected officials; environmental and public interest groups; Native American tribes; local libraries and newspapers; and other interested parties. In response to the Notice of Application and the NOI, the Commission received 336 comments, including comments from 2 federal agencies, 4 local agencies, 4 state agencies, 3 non-governmental agencies, 14 companies (including 6 chambers of commerce), and 328 individuals. The primary issues raised during scoping include impacts on: Drinking water supplies, surface waterbodies, and wetlands; forested areas and wildlife; surrounding land use; visual resources; historic properties and Native American tribes; air quality and noise; and public safety.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the eLibrary link, select General Search from the eLibrary menu, enter the selected date range and “Docket Number” excluding the last three digits (i.e., CP17-15), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: May 2, 2017.
Kimberly D. Bose,
Secretary.

[FR Doc. 2017-09245 Filed 5-5-17; 8:45 am]

BILLING CODE 6717-01-P